DEPARTMENT OF ENERGY

Federal Energy Regulatory Commission

Notice of Dam Remediation Work and Soliciting Comments, Motions To Intervene, and Protests

April 4, 2005.

Take notice that the following hydroelectric application has been filed with the Commission and is available for public inspection:

a. Application Type: Request to deviate from the target and allowable minimum flows required by Article 39 below Middle and Lower Lindsey Lake Dams during necessary dam remediation.

b. Project No.: 2310-146.

c. Date Filed: March 16, 2005.

d. Applicant: Pacific Gas and Electric Company.

e. Name of Project: Drum-Spaulding Project.

f. Location: The project is located on the South Yuba and Bear Rivers in Nevada County and Placer County, California.

g. Filed Pursuant to: Section 10(c) of the Federal Power Act, 16 U.S.C. 791(a)-825(r).

h. Applicant Contact: Mr. Richard Doble, Pacific Gas and Electric Company, Mail Code N11C, P.O. Box 770000, San Francisco, CA 94177.

i. FERC Contact: Any questions on this notice should be addressed to Philip Scordelis, at (415) 369-3335, or e-mail address philip.scordelis@ferc.gov.

j. Deadline for Filing Comments and or Motions: May 6, 2005.

All documents (original and eight copies) should be filed with Ms. Magalie R. Salas, Secretary, Federal Energy Regulatory Commission, 888 First Street, NE., Washington, DC 20426. Please reference the following number, P-2310-146, on any comments or motions filed.

k. Description of Proposal: Improvements to the existing cut-off wall around the outlet structure and along the south embankment at Lower Lindsey Lake Dam are necessary to reduce seepage. The work is required under part 12 of the Commission's regulations. Lower Lindsey Lake will be lowered to an elevation of 6490.0 feet to facilitate the work. Deviations from the target and allowable minimum flows required by article 39 below Middle and Lower Lindsey Lake Dams are necessary to ensure continued release of water to Lindsey Creek during and after construction. A target flow of 0.20 cubic feet per second (cfs) and an allowable minimum flow of 0.10 cfs are proposed to maintain flow in Lindsey Creek until the Spring of 2006. The improvement work will be performed from July though September 2005. Refilling of the lakes will begin after completion of the work and will take one year.

l. Locations of the Application: A copy of the application is available for inspection and reproduction at the Commission's Public Reference Room, at 888 First Street, NE., Room 2A, Washington, DC 20426, or by calling (202) 208-1371. The application may be viewed online at http://www.ferc.gov/docs-filing/elibrary.asp (call 1-866-208-3676 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E5-1646 Filed 4-8-05; 8:45 am]

BILLING CODE 6717-01-P